DEPARTMENT OF HEALTH AND HUMAN SERVICES

Administration on Aging

[Program Announcement No. AoA-01-03]

Fiscal Year 2001 Program Announcement; Availability of Funds and Notice Regarding Applications

AGENCY: Administration on Aging, HHS.

ACTION: Request for applications for a Technical Assistance Project for Statewide Senior Legal Hotlines to provide technical assistance and guidance to support statewide senior legal hotlines programs.

SUMMARY: The Administration on Aging announces that under this program announcement it will hold a competition for a grant award for one (1) project at a federal share of approximately $90,000 to $100,000 per year for a project period of three years. The purpose of the project is to provide appropriate technical assistance to statewide senior legal hotline programs aimed at advancing the quality and accessibility of the legal assistance provided to older people.

The deadline date for the submission of applications is May 11, 2001. Eligibility for grant awards is limited to public and/or nonprofit agencies, organizations, and institutions experienced in providing legal assistance to older persons.

Application kits are available by writing to the Department of Health and Human Services, Administration on Aging, Office of Program Development, 330 Independence Avenue, SW., Room 4264, Washington, DC 20201, by calling 202/619-2987, or on the web at http://www.aoa.gov/t4/fy2001.

Dated: March 23, 2001.
Norman L. Thompson,
Acting Principal Deputy Assistant Secretary for Aging.

[FR Doc. 01-7905 Filed 3-29-01; 8:45 am]

BILLING CODE 4154-01-P